COMMISSION ON CIVIL RIGHTS

Agenda and Notice of Public Meetings of the New Hampshire Advisory Committee

AGENCY: Commission on Civil Rights.

ACTION: Announcement of briefings.

SUMMARY: Notice is hereby given, pursuant to the provisions of the rules and regulations of the U.S. Commission on Civil Rights (Commission), and the Federal Advisory Committee Act (FACA), that the New Hampshire State Advisory Committee to the Commission will convene web briefings on the following third Mondays of the month: July 20, August 17, and September 21, 2020 at 4:00 p.m. (EDT). The purpose of the briefings is to hear from speakers related to the use of solitary confinement in New Hampshire.

DATES: July 20, August 17, and September 21, 2020 from 4:00 p.m.-5:30 p.m. (EDT).

Public Call-In Information: Conference call-in number: 1-800-437-2398; Conference ID: 5226726

FOR FURTHER INFORMATION CONTACT: Mallory Trachtenberg at mtrachtenberg@usccr.gov or by phone at (202) 809-9618.

SUPPLEMENTARY INFORMATION: These briefings are available to the public through the telephone number and conference ID listed above. Callers can expect to incur charges for calls they initiate over wireless lines, and the Commission will not refund any incurred charges. Persons with hearing impairments may also follow the proceedings by first calling the Federal Relay Service at 1-800-877-8339 and providing the Service with the conference call-in numbers: 1-800-437-2398; Conference ID: 5226726.

Members of the public are entitled to make comments during the open period at the end of each briefing. Members of the public may also submit written comments; the comments must be received in the Regional Programs Unit within 30 days following the respective meeting. Written comments may be emailed to Mallory Trachtenberg at mtrachtenberg@usccr.gov. Persons who desire additional information may contact the Regional Programs Unit at (202) 809-9618. Records and documents discussed during the meeting will be available for public viewing as they become available at the FACA Link (https://www.facadatabase.gov/FACA/FACAPublicViewCommitteeDetails?id=a10t0000001gzlXAAQ); click the “Meeting Details” and “Documents” links. Records generated from this meeting may also be inspected and reproduced at the Midwestern Regional Office, as they become available, both before and after the meetings. Persons interested in the work of this advisory committee are advised to go to the Commission's website, www.usccr.gov, or to contact the Midwestern Regional Office at the above phone number or email address.

Agenda

Monday July 20, August 17, September 21, 2020 from 4:00 p.m.-5:30 p.m. (EDT)

I. Welcome and Roll Call

II. Briefing: Solitary Confinement in New Hampshire

III. Discussion: Committee Business

a. Approval of Minutes

b. Other Business

c. Next Steps

IV. Public Comment

V. Adjournment

Dated: July 7, 2020.
David Mussatt,
Supervisory Chief, Regional Programs Unit.

[FR Doc. 2020-14947 Filed 7-17-20; 8:45 am]

BILLING CODE 6335-01-P